COMMISSION ON CIVIL RIGHTS

Sunshine Act Notice

AGENCY: United States Commission on Civil Rights.

ACTION: Notice of Business Meeting.

Date and Time: Friday, November 15, 2013; 9:30 a.m. EST.

Place: 1331 Pennsylvania Ave NW., Suite 1150, Washington, DC 20425.

Meeting Agenda

I. Approval of Agenda

II. Office of General Counsel Ethics Training: Expiration of Appointments and Applicable Ethics Rules

III. Program Planning

• Review and Vote on the Proposed Eminent Domain Findings & Recommendations

• Discussion and Vote on the “Civil Rights Effects of Regulatory and Other Barriers to Small Businesses”

• Update on Status of the “Civil Rights Implications of Eminent Domain Abuse” report

• Update on Status of the “Assessing the Impact of Criminal Background Checks and the Equal Employment Opportunity Commission's Conviction Records Policy” report

• Discussion and Vote on the 2014 Statutory Enforcement Report topic

• Discussion and Vote to schedule two briefings for 2014: the Statutory Enforcement Report Topic and the “Enforcing the Americans with Disabilities Act Online”

• Results of the telephonic vote held on July 21, 2013 re: the Findings and Recommendations for the 2013 Statutory Enforcement Report

• Proposals for the Commemoration of the 13th and 14th Amendments

• Consideration of the inquiry letter to the Department of Defense on behalf of Sikh military members

IV. Management and Operations

• Staff Director's Report

V. Adjourn Meeting

FOR FURTHER INFORMATION CONTACT: Contact Person for Further Information:

Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: November 4, 2013.
David Mussatt,
Acting RPCU Chief.

[FR Doc. 2013-26777 Filed 11-5-13; 11:15 am]

BILLING CODE 6335-01-P